DEPARTMENT OF TRANSPORTATION

14 CFR Part 11

[Docket No. FAA 1999-6622; Amendment No. 11-50]

General Rulemaking Procedures

AGENCY: Federal Aviation Administration (FAA), DOT.

ACTION: Technical amendment.

SUMMARY: The FAA published a final rule on August 21, 2000 (65 FR 50850) that revised and clarified its rulemaking procedures by putting them into plain language and by removing redundant and outdated material. This technical amendment revises regulations on “How and to whom do I submit my petition for rulemaking or petition for exemption,” and directs petitioners for certain rulemaking or exemptions to submit the petition to the appropriate FAA airport field office in whose area the petitioner proposes to establish or has established its airport in addition to sending the petition to the U.S. Department of Transportation, Docket Management System.

DATES: Effective April 26, 2004.

FOR FURTHER INFORMATION CONTACT: Komal K. Jain, Attorney-Advisor, Regulations Division, AGC-200, Federal Aviation Administration, 800 Independence Ave. SW., Washington, DC 20591; telephone: (202) 267-3073.

SUPPLEMENTARY INFORMATION:

Background

The FAA is amending 14 CFR 11.63, “How and to whom do I submit my petition for rulemaking or petition for exemption,” and directs petitioners for rulemaking or exemptions pertaining to 14 CFR part 139 to submit the petition to the appropriate FAA airport field office in whose area the petitioner proposes to establish or has established its airport in addition to sending a copy to the U.S. Department of Transportation, Docket Management System. Under the December 14, 1999, Notice of Proposed Rulemaking (64 FR 69856), the FAA proposed to retain the part 11 rule that any petition filed under part 139 of this chapter be submitted to the appropriate FAA airport field office in whose area the petitioner proposes to establish or has established its airport. In its effort to revise and clarify its rulemaking procedures by putting them into plain language and by removing redundant and outdated material, the FAA published the final rule on August 21, 2000 (65 FR 50850) and required that all petitions for rulemaking and exemptions be sent to one central address. The FAA's experience since the last revision to part 11 indicates that streamlining is not appropriate for part 139 petition processes. The FAA realizes the nature of these petitions, with unique concerns and characteristics, are not appropriate for the streamlined general rulemaking and exemption process. Therefore, the FAA now revises part 11 to re-establish a specific process for petitions for rulemaking and exemptions pertaining to part 139.

List of Subjects in 14 CFR Part 11

Administrative practice and procedure, Reporting and recordkeeping requirements.

The Amendment

In consideration of the above, the Federal Aviation Administration amends chapter 1 of title 14, Code of Federal Regulations as follows:

PART 11—GENERAL RULEMAKING PROCEDURES

1. The authority citation for part 11 continues to read as follows:

Authority: 49 U.S.C. 106(g), 40101, 40103, 40105, 40109, 40113, 44110, 44502, 44701-44702, 44711, and 46102.

2. Revise § 11.63 to read as follows:

§ 11.63 How and to whom do I submit my petition for rulemaking or petition for exemption?

(a) For a petition of rulemaking or exemption filed under part 139 of this chapter:

(1) To the appropriate FAA airport field office in whose area the petitioner proposes to establish or has established its airport; and

(2) To the U.S. Department of Transportation, Docket Management System, 400 7th Street, SW., Room PL 401, Washington, DC 20591-0001 or to this Internet address: http://dms.dot.gov/.

(b) For all other cases,

(1) By paper submissions, send the original signed copy of your petition for rulemaking or exemption to this address: U.S. Department of Transportation, Docket Management System, 400 7th Street, SW., Room PL 401, Washington, DC 20591-0001.

(2) By electronic submission, submit your petition for rulemaking or exemption to FAA through the Internet using the Docket Management System Web site at this Internet address: http://dms.dot.gov/.

(c) In the future, FAA may designate other means by which you can submit petitions.

(d) Submit your petition for exemption 120 days before you need the exemption to take effect.

Issued in Washington, DC, on April 20, 2004.
Donald P. Byrne,
Assistant Chief Counsel.

[FR Doc. 04-9394 Filed 4-23-04; 8:45 am]

BILLING CODE 4910-13-M